DEPARTMENT OF HEALTH AND HUMAN SERVICES

Centers for Disease Control and Prevention

Full Access Home-Based VCT Using Outreach Teams in Two Districts in the Republic of Uganda

Announcement Type: New.

Funding Opportunity Number: 04228.

Catalog of Federal Domestic Assistance Number: 93.941.

Key Dates:

Application Deadline: August 30, 2004.

I. Funding Opportunity Description

Authority: This program is authorized under Sections 301(a) and 307 of the Public Health Service Act, [42 U.S.C. sections 241(a) and 242l], and Section 104 of the Foreign Assistance Act of 1961, [22 U.S.C. 215lb], as amended.

Purpose: The Centers for Disease Control and Prevention (CDC) announces the availability of fiscal year (FY) 2004 funds for a cooperative agreement program for Full Access Home-Based Voluntary Counseling and Testing (VCT) using Outreach Teams in Two Districts in the Republic of Uganda.

The overall aim of this program is to implement a model of rapid home-based VCT, which provides access for the entire population of a district to VCT within their community of residence. The service would include referral of those testing positive to sources of basic preventative care and palliative care. The provision of antiretroviral therapy (ART) is not part of this program.

The United States Government seeks to reduce the impact of HIV/AIDS in specific countries within sub-Saharan Africa, Asia and the Americas. The President's Emergency Plan for AIDS Relief (PEPFAR) encompasses HIV/AIDS activities in more than 75 countries and focuses on 14 countries including Uganda to develop comprehensive and integrated prevention, care and treatment programs. CDC has initiated its Global AIDS Program (GAP) to strengthen capacity and expand activities in the areas of: (1) HIV primary prevention; (2) HIV care, support and treatment; and (3) capacity and infrastructure development including surveillance. Targeted countries represent those with the most severe epidemics and the highest number of new infections. They also represent countries where the potential impact is greatest and where the United States government agencies are already active. Uganda is one of those countries.

CDC's mission in Uganda is to work with Ugandan and international partners to develop, evaluate, and support effective implementation of interventions to prevent HIV and related illnesses and improve care and support of persons with HIV/AIDS.

VCT services are only available at a five percent of health facilities (Uganda Health Facilities Survey 2002). The most recent Demographic and Health Survey in Uganda indicated that 70 percent of people would like to receive HIV testing, but only 10 percent reported that they had been tested. Evidence from studies in several districts suggests that when offered VCT in their homes between 50 and 90 percent utilize the service. If cost effective procedures of offering access to VCT to the whole population over a relatively short period could be developed, then this would provide an important strategy for averting infections and providing timely care to people living with HIV/AIDS (PLWHAs).

The purpose of this program is to provide HIV counseling and testing services to all adults and potentially all children less than five years of age residing in two districts. This program will operate over a period of 12 months in order to evaluate the experience and produce guidelines for cost effective expansion of the program to other districts in Uganda. It is expected that this first phase of the program, including preparation and evaluation, would last 18 months. The program would include referrals to local care providers offering basic preventative care, palliative care, and, if available antiretroviral treatment, to persons with HIV/AIDS in the target districts, but without taking on long term responsibility for financial support of care provision.

The measurable outcomes of the program will be in alignment with goals of the Global AIDS Program (GAP) to reduce HIV transmission and improve care of persons living with HIV. They also will contribute to the goals of the PEPFAR which are: within five years treat more than two million HIV-infected persons with effective combination anti-retroviral therapy; care for seven million HIV-infected and affected persons including those orphaned by HIV/AIDS; and prevent ten million new infections. Specific measurable outcomes of this program should include, but not be limited to, the number, age and sex of clients (individual and couples) provided with HIV counseling and testing (HIV CT), the percentage coverage of the population by HIV CT, unrecognized infections discovered, the cost per client service and per unrecognized infection, and the number of persons with HIV successfully referred to an effective care provider.

Activities

Awardee activities for this program are as follows:

a. Identify project staffing needs; hire and train staff.

b. Identify vehicles, furnishings, fittings, equipment, computers and other fixed assets procurement needs of the project and implementing partners, and acquire from normal sources.

c. Establish suitable administrative and financial management structures including a project office if required.

d. Work with the districts to implement home-based HIV counseling and testing in such a manner that the coverage of the district's population is progressive, predictable and comprehensive, reaching all communities before 12 months have elapsed from the start of VCT delivered under this program.

e. Work with district stakeholders to develop an effective referral system to care providers for those testing positive.

f. Ensure that all persons testing positive receive information about a basic preventive care package and referral to an effective care provider.

g. Support the development of a simple data collection system, integrated within the general Health Management Information System (HMIS) that reflects useful information specifically related to VCT activities and PEPFAR reporting requirements. For program evaluation purposes, some information related to demographic and behavioral risk factors for HIV should be collected.

h. Ensure that a commodities supply and management system is operational in respect to test kits and other necessary items.

i. Develop a simple quality assurance system for HIV counseling and testing in a home-based setting.

j. Evaluate the activity and disseminate conclusions.

k. Develop and produce guidelines and training manuals in collaboration with Ministry of Health and other stakeholders relating to full access HIV CT.

l. Ensure that the above activities are undertaken in a manner consistent with the national HIV/AIDS strategy.

In a cooperative agreement, CDC staff is substantially involved in the program activities, above and beyond routine grant monitoring.

CDC Activities for this program are as follows:

a. Provide technical assistance, as needed, in the development of training curricula, materials, and diagnostic therapeutic guidelines.

b. Collaborate with the recipient, as needed, in the development of an information technology system for medical record keeping and information access and in the analysis of data derived from those records.

c. Assist, as needed, in the monitoring and evaluation of the program and in development of further appropriate initiatives.

d. Assist, as needed, in appropriate analysis and interpretation of program evaluation data collected during training sessions.

e. Provide input, as needed, into the criteria for selection of staff and non-staff implementing personnel for the VCT program.

f. Provide input into the overall program strategy.

g. Collaborate, as needed, with the recipient in the selection of key personnel to be involved in the activities to be performed under this agreement including approval of the overall manager of the program.

Technical assistance and training may be provided directly by CDC staff or through organizations that have successfully competed for funding under a separate CDC contract.

II. Award Information

Type of Award: Cooperative Agreement.

CDC involvement in this program is listed in the Activities Section above.

Fiscal Year Funds: 2004.

Approximate Total Funding: $2,580,000.

Approximate Number of Awards: Two.

Approximate Average Award: $645,000 per award (This amount is for the first 12-month budget period, and includes only direct costs).

Floor of Award Range: None.

Ceiling of Award Range: $1,290,000.

Anticipated Award Date: September 1, 2004.

Budget Period Length: 12 months.

Project Period Length: Two years.

Throughout the project period, CDC's commitment to continuation of awards will be conditioned on the availability of funds, evidence of satisfactory progress by the recipient (as documented in required reports), and the determination that continued funding is in the best interest of the Federal Government.

III. Eligibility Information

III.1. Eligible Applicants

Applications may be submitted by public nonprofit organizations, private nonprofit organizations, universities, colleges, research institutions, hospitals, and faith-based organizations that meet the following criterion:

1. Have at least three years of documented HIV counseling and testing program experience in Africa.

III.2. Cost Sharing or Matching

Matching funds are not required for this program.

III.3. Other

If you request a funding amount greater than the ceiling of the award range, your application will be considered non-responsive, and will not be entered into the review process. You will be notified that your application did not meet the submission requirements.

If your application is incomplete or non-responsive to the requirements listed in this section, it will not be entered into the review process. You will be notified that your application did not meet submission requirements.

Note: Title 2 of the United States Code Section 1611 states that an organization described in Section 501c(4) of the Internal Revenue Code that engages in lobbying activities is not eligible to receive Federal funds constituting an award, grant or loan.

Private, non-profit organizations are encouraged to submit with their applications the survey located under “Grant Related Documents and Forms” titled “Survey for Private, Non-Profit Grant Applicants” at http://www.acf.hhs.gov/programs/ofs/final_fy04_424_survey.doc.

IV. Application and Submission Information

IV.1. Address To Request Application Package

To apply for this funding opportunity use application form PHS 5161. Application forms and instructions are available in an interactive format on the CDC Web site, at the following Internet address: http://www.cdc.gov/od/pgo/forminfo.htm. If you do not have access to the Internet, or if you have difficulty accessing the forms on-line, you may contact the CDC Procurement and Grants Office Technical Information Management Section (PGO-TIM) staff at: 770-488-2700. Application forms can be mailed to you.

IV.2. Content and Form of Submission

Application: You must submit a project narrative with your application forms. The narrative must be submitted in the following format:

• Maximum number of pages: 25. If your narrative exceeds the page limit, only the first pages, which are within the page limit, will be reviewed.

• Font size: 12 point unreduced.

• Double spaced.

• Paper size: 8.5 by 11 inches.

• Page margin size: One inch.

• Printed only on one side of page.

• Held together only by rubber bands or metal clips; not bound in any other way.

• All pages should be numbered, and a complete index to the application and any appendices must be included.

• Submitted in English.

Your narrative should address activities to be conducted over the entire project period, and must include, at a minimum, the following items in the order listed: a plan, objectives, activities, methods, an evaluation framework, a budget highlighting any supplies mentioned in the Program Requirements and any proposed capital expenditure.

Additional information is optional and may be included in the application appendices. The appendices will not be counted toward the narrative page limit. Additional information could include but is not limited to: organizational charts, curriculum vitas, letters of support, etc.

The budget justification will not be counted in the page limit stated above.

You are required to have a Dun and Bradstreet Data Universal Numbering System (DUNS) number to apply for a grant or cooperative agreement from the Federal government. The DUNS number is a nine-digit identification number, which uniquely identifies business entities. Obtaining a DUNS number is easy and there is no charge. To obtain a DUNS number, access www.dunandbradstreet.com or call 1-866-705-5711.

For more information, see the CDC Web site at: http://www.cdc.gov/od/pgo/funding/pubcommt.htm. If your application form does not have a DUNS number field, please write your DUNS number at the top of the first page of your application, and/or include your DUNS number in your application cover letter.

Additional requirements that may require you to submit additional documentation with your application are listed in section “VI.2. Administrative and National Policy Requirements.”

IV.3. Submission Dates and Times

Application Deadline Date: August 30, 2004.

Explanation of Deadlines: Applications must be received in the CDC Procurement and Grants Office by 4 p.m. Eastern Time on the deadline date. If you send your application by the United States Postal Service or commercial delivery service, you must ensure that the carrier will be able to guarantee delivery of the application by the closing date and time. If CDC receives your application after closing due to: (1) carrier error, when the carrier accepted the package with a guarantee for delivery by the closing date and time, or (2) significant weather delays or natural disasters, you will be given the opportunity to submit documentation of the carrier's guarantee. If the documentation verifies a carrier problem, CDC will consider the application as having been received by the deadline.

This announcement is the definitive guide on application submission address and deadline. It supersedes information provided in the application instructions. If your application does not meet the deadline above, it will not be eligible for review, and will be discarded. You will be notified that your application did not meet the submission requirements.

CDC will not notify you upon receipt of your application. If you have a question about the receipt of your application, first contact your courier. If you still have a question, contact the PGO-TIM staff at: 770-488-2700. Before calling, please wait two to three days after the application deadline. This will allow time for applications to be processed and logged.

IV.4 Intergovernmental Review of Applications

Executive Order 12372 does not apply to this program.

IV.5. Funding Restrictions

Funding Restrictions

Restrictions, which must be taken into account while writing your budget, are as follows:

• Funds may not be used for any new construction.

• Antiretroviral Drugs—The purchase of antiretrovirals, reagents, and laboratory equipment for antiretroviral treatment projects require pre-approval from the HHS/CDC Officials.

• Needle Exchange—No funds appropriated under this Act shall be used to carry out any program of distributing sterile needles or syringes for the hypodermic injection of any illegal drug.

• Funds may be spent for reasonable program purposes, including personnel, training, travel, supplies and services. Equipment may be purchased and renovations completed if deemed necessary to accomplish program objectives; however, prior approval by CDC officials must be requested in writing.

• All requests for funds contained in the budget shall be stated in U.S. dollars. Once an award is made, CDC will not compensate foreign grantees for currency exchange fluctuations through the issuance of supplemental awards.

• The costs that are generally allowable in grants to domestic organizations are allowable to foreign institutions and international organizations, with the following exception: With the exception of the American University, Beirut, and the World Health Organization, Indirect Costs will not be paid (either directly or through sub-award) to organizations located outside the territorial limits of the United States or to international organizations regardless of their location.

• The applicant may contract with other organizations under this program; however, the applicant must perform a substantial portion of the activities, including program management and operations, and delivery of prevention and care services for which funds are required).

• Prostitution and Related Activities—The U.S. Government is opposed to prostitution and related activities, which are inherently harmful and dehumanizing, and contribute to the phenomenon of trafficking in persons.

Any entity that receives, directly or indirectly, U.S. Government funds in connection with this document (“recipient”) cannot use such U.S. Government funds to promote or advocate the legalization or practice of prostitution or sex trafficking. Nothing in the preceding sentence shall be construed to preclude the provision to individuals of palliative care, treatment, or post-exposure pharmaceutical prophylaxis, and necessary pharmaceuticals and commodities, including test kits, condoms, and, when proven effective, microbicides. A recipient that is otherwise eligible to receive funds in connection with this document to prevent, treat, or monitor HIV/AIDS shall not be required to endorse or utilize a multisectoral approach to combating HIV/AIDS, or to endorse, utilize, or participate in a prevention method or treatment program to which the recipient has a religious or moral objection. Any information provided by recipients about the use of condoms as part of projects or activities that are funded in connection with this document shall be medically accurate and shall include the public health benefits and failure rates of such use.

In addition, any foreign recipient must have a policy explicitly opposing, in its activities outside the United States, prostitution and sex trafficking.

The following definitions apply for purposes of this clause:

• Sex trafficking means the recruitment, harboring, transportation, provision, or obtaining of a person for the purpose of a commercial sex act. 22 U.S.C. 7102(9).

• A foreign recipient includes an entity that is not organized under the laws of any State of the United States, the District of Columbia or the Commonwealth of Puerto Rico. Restoration of the Mexico City Policy, 66 FR 17303, (March 28, 2001).

All recipients must insert provisions implementing the applicable parts of this section, “Prostitution and Related Activities,” in all sub agreements under this award. These provisions must be express terms and conditions of the sub agreement, acknowledge that each certification to compliance with this section, “Prostitution and Related Activities,” are a prerequisite to receipt of U.S. government funds in connection with this document, and must acknowledge that any violation of the provisions shall be grounds for unilateral termination of the agreement prior to the end of its term. In addition, all recipients must ensure, through contract, certification, audit, and/or any other necessary means, all the applicable requirements in this section, “Prostitution and Related Activities,” are met by any other entities receiving U.S. government funds from the recipient in connection with this document, including without limitation, the recipients' sub-grantees, sub-contractors, parents, subsidiaries, and affiliates. Recipients must agree that HHS may, at any reasonable time, inspect the documents and materials maintained or prepared by the recipient in the usual course of its operations that relate to the organization's compliance with this section, “Prostitution and Related Activities.”

All primary grantees receiving U.S. Government funds in connection with this document must certify compliance prior to actual receipt of such funds in a written statement referencing this document (e.g., “[Recipient's name] certifies compliance with the section, Prostitution and Related Activities. ”) addressed to the agency's grants officer. Such certifications are prerequisites to the payment of any U.S. Government funds in connection with this document.

Recipients' compliance with this section, “Prostitution and Related Activities,” is an express term and condition of receiving U.S. government funds in connection with this document, and any violation of it shall be grounds for unilateral termination by HHS of the agreement with HHS in connection with this document prior to the end of its term. The recipient shall refund to HHS the entire amount furnished in connection with this document in the event it is determined by HHS that the recipient has not complied with this section, “Prostitution and Related Activities.”

Funds may be used for:

1. HIV counseling and testing within the program district(s) including required training, test kit purchase, simple laboratory refurbishment, vehicles and logistical support to testing teams, additional staffing and other related commodities and expenses.

2. Evaluation and management of the activities.

Awards will not allow reimbursement of pre-award costs. Guidance for completing your budget can be found on the CDC Web site, at the following Internet address: http://www.cdc.gov/od/pgo/funding/budgetguide.htm.

IV.6. Other Submission Requirements

Application Submission Address: Submit your application by mail or express delivery service to: Technical Information Management-PA 04228, CDC Procurement and Grants Office, 2920 Brandywine Road, Atlanta, GA 30341. Applications may not be submitted electronically at this time.

V. Application Review Information

V.1. Criteria

You are required to provide measures of effectiveness that will demonstrate the accomplishment of the various identified objectives of the cooperative agreement. Measures of effectiveness must relate to the performance goals stated in the “Purpose” section of this announcement. Measures must be objective and quantitative, and must measure the intended outcome. These measures of effectiveness must be submitted with the application and will be an element of evaluation.

Your application will be evaluated against the following criteria:

1. Understanding the issues, principles and systems requirements involved in delivering community and home-based VCT which provides access to the whole population of a district in the context of Uganda (25 points): Does the applicant demonstrate an understanding of the ethical, clinical, social, managerial and other practical issues involved in delivering comprehensive VCT in a cost effective and sensitive manner in the setting of a Ugandan district?

2. Ability to carry out the proposal (25 points): Does the applicant demonstrate the capability to achieve the purpose of this proposal?

3. Work Plan (25 points): Does the applicant describe activities, which are realistic, achievable, time-framed and appropriate to complete this program?

4. Personnel (15 points): Are the personnel, including qualifications, training, availability, and experience adequate to carry out the proposed activities?

5. Administrative and Accounting Plan (10 points): Is there a plan to prepare reports, monitoring and audit expenditures under this agreement, manage the resources of the program and produce, collect and analyze performance data?

6. Budget (not scored): Is the budget for conducting the activity itemized and well-justified and consistent with stated activities and planned program activities?

7. Human Subjects (not scored, but evaluated): Does the application adequately address the requirements of Title 45 CFR Part 46 for the protection of human subjects?

V.2. Review and Selection Process

Applications will be reviewed for completeness by the Procurement and Grants Office (PGO) staff and for responsiveness by National Center for HIV, STD, and TB Prevention (NCHSTP). Incomplete applications and applications that are non-responsive to the eligibility criteria will not advance through the review process. Applicants will be notified that their application did not meet submission requirements.

An objective review panel will evaluate complete and responsive applications according to the criteria listed in the “V.1. Criteria” section above.

V.3. Anticipated Announcement and Award Dates

September 1, 2004.

VI. Award Administration Information

VI.1. Award Notices

Successful applicants will receive a Notice of Grant Award (NGA) from the CDC Procurement and Grants Office. The NGA shall be the only binding, authorizing document between the recipient and CDC. The NGA will be signed by an authorized Grants Management Officer, and mailed to the recipient fiscal officer identified in the application.

Unsuccessful applicants will receive notification of the results of their application review by mail.

VI.2. Administrative and National Policy Requirements

45 CFR Part 74 and Part 92

For more information on the Code of Federal Regulations, see the National Archives and Records Administration at the following Internet address: http://www.access.gpo.gov/nara/cfr/cfr-table-search.html.

The following additional requirements apply to this project:

• AR-1 Human Subjects Requirements

• AR-10 Smoke-Free Workplace Requirements

Additional information on these requirements can be found on the CDC Web site at the following Internet address: http://www.cdc.gov/od/pgo/funding/ARs.htm.

VI.3. Reporting Requirements:

You must provide CDC with an original, plus two hard copies of the following reports:

1. Semi-annual progress reports, no less than 30 days after the end of the reporting period.

2. Interim progress report, no less than 90 days before the end of the budget period. The progress report will serve as your non-competing continuation application, and must contain the following elements:

a. Current Budget Period Activities Objectives.

b. Current Budget Period Financial Progress.

c. New Budget Period Program Proposed Activity Objectives.

d. Detailed Line-Item Budget and Justification.

e. Additional Requested Information.

f. Measures and Effectiveness.

3. Financial status report, no more than 90 days after the end of the budget period.

4. Final financial and performance reports, no more than 90 days after the end of the project period.

These reports must be mailed to the Grants Management or Contract Specialist listed in the “Agency Contacts” section of this announcement.

VII. Agency Contacts

For general questions about this announcement, contact: Technical Information Management Section, CDC Procurement and Grants Office, 2920 Brandywine Road, Atlanta, GA 30341, Telephone: 770-488-2700.

For program technical assistance, contact: Jonathan Mermin, MD, MPH, Global AIDS Program [GAP], Uganda Country Team, National Center for HIV, STD, TB Prevention, Centers for Disease Control and Prevention [CDC], PO Box 49, Entebbe, Uganda. Telephone +256-41320776, E-mail: jhm@cdc.gov.

For financial, grants management, or budget assistance, contact: Shirley Wynn, Grants Management Specialist, Procurement and Grants Office, Centers for Disease Control and Prevention, 2920 Brandywine Road, Atlanta, GA 30341-4146, Telephone: 770-488-1515, E-mail: Zbx6@cdc.gov.

Dated: July 23, 2004.
William P. Nichols,
Acting Director, Procurement and Grants Office, Centers for Disease Control and Prevention.

[FR Doc. 04-17280 Filed 7-28-04; 8:45 am]

BILLING CODE 4163-18-P